DEPARTMENT OF HOUSING AND URBAN DEVELOPMENT

[Docket No. FR-5689-N-07]

60-Day Notice of Proposed Information Collection: Quality Control for Rental Assistance Subsidy Determinations

AGENCY: Office of Policy Development and Research, HUD.

ACTION: Notice.

SUMMARY: The proposed information collection requirement described below will be submitted to the Office of Management and Budget (OMB) for review, as required by the Paperwork Reduction Act. The Department is soliciting public comments on the subject proposal.

DATES: Comment Due Date: November 12, 2013.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Dr. Yves Djoko, Office of Economic Affairs, Department of Housing and Urban Development, 451 7th Street SW., Room 8216, Washington, DC 20410; telephone 202-402-5851 (not a toll-free number). Copies of the proposed forms and other available documents submitted to OMB may be obtained from Dr. Djoko.

SUPPLEMENTARY INFORMATION: The Department will submit the proposed information collection to OMB for review, as required by the Paperwork Reduction Act of 1995 (44 U.S.C. chapter 35, as amended). The Department is required by the Improper Payments Act of 2002 to submit annual reports on improper payments associated with its assisted housing programs. The information must meet statistical accuracy tests and requires on-site file reviews and tenant interviews that cannot be accomplished with remote monitoring or HUD data systems. This Notice is soliciting comments from members of the public and affected agencies concerning the proposed collection of information to: (1) Evaluate whether the proposed collection of information is necessary for the proper performance of the functions of the agency, including if the information will have practical utility; (2) Evaluate the accuracy of the agency's estimate of the burden of the proposed collection of information; (3) Enhance the quality, utility, and clarity of the information to be collected; and (4) Minimize the burden of the collection of information on those who are to respond; including through the use of appropriate automated collection techniques or other forms of information technology that will reduce respondent burden (e.g., permitting electronic submission of responses).

A. Overview of Information Collection

Title of Proposal: Quality Control for Rental Assistance Subsidy Determinations.

OMB Approval Number: 2528-0261.

Type of Request: Regular.

Form Number: N/A.

Description of the need for the information and proposed use: The Department is conducting under contract a study to update its estimates of the extent and type of errors associated with income, rent, and subsidy determinations for the 4.3 million households covered by the Public Housing and Section 8 housing subsidies. The Quality Control process involves selecting a nationally representative sample of assisted households to measure the extent and types of errors in rent and income determinations, which in turn cause subsidy errors. On-site tenant interviews, file reviews, third-party income verifications, and income matching with other Federal data are conducted. The data obtained are used to identify the most serious problems and their associated costs. HUD program officers are then responsible for designing and implementing corrective actions. In addition to providing current estimates of error, results will be compared with those from previous years' studies. These comparisons will indicate whether corrective actions initiated since the 2000 study have been effective and if changes in priorities are needed.

The first QC study was completed in 1996 and found that about one-half of the errors measured using on-site tenant interviews and file reviews could not be detected with the 50058/50059 from data collected by the Department, which is why HUD and other agencies with means-tested programs have determined that on-site reviews and interviews are an essential complement to remote monitoring measures. The 2000 study showed that the calculation errors detectable with 50058/50059 data had decreased, probably because this information was increasingly subject to automated computational checks. HUD has initiated a program of corrective actions and increased monitoring since 2000 and recent studies of tenant certification and recertification actions showed significant error reductions in income and rent determinations.

Future studies are planned on an annual basis, as required by legislation. Program monitoring and income matching policies being implemented may eliminate the need for an independent, statistically valid measure of program errors provided by the current study design, but such procedures have yet to be fully implemented and evaluated. The Improper Payments Act of 2002 requires that the Department report on the error measurements annually. This proposed data collection approval request is for studies to be conducted in 2011, 2012, 2013 and 2014 of prior year certification and recertification actions.

B. Solicitation of Public Comment

These studies will provide current information on the quality of tenant interviews (e.g., whether they are being asked about all sources of income) and the reliability of eligibility determinations and income verification.

Members of affected public: Recipients of Public Housing and Section 8 Housing Assistance subsidies.

Estimation of the total number of hours needed to prepare the information collection, including the number of respondents, frequency of response, and hours of response: For each study, approximately 600 PHA/program sponsor staff will need to be asked about recertification procedures, training, interview procedures, and problems encountered in conducting (re)certifications. Although more than one staff member may need to be contacted to obtain answers to all questions, the questionnaire will be administered once at each participating project and the total interview times are expected to be less than 40 minutes per PHA or project. Researchers will survey approximately 2,400 program participants to obtain information on household composition, expenses, and income. The time required for these interviews will vary, but is estimated to require an average of about 50 minutes per interview.

The time estimates provided are based on the 2011 QC survey. The proposed surveys will continue to make use of Computer Assisted Interviewing (CAI) questionnaires and equipment, which are being used in part because they reduce interview times. The software also provides for consistency check and ensures that all needed data have been collected, thereby reducing the need for the follow-up contacts. Status of the Proposed Information Collection: Pending OMB approval.

Status of the proposed information collection: Pending OMB approval.

Authority: Section 3506 of the Paperwork Reduction Act of 1995, 44 U.S.C. Chapter 35, as amended.

Dated: August 29, 2013.
Jean Lin Pao,
General Deputy Assistant Secretary for Policy Development and Research.

[FR Doc. 2013-22023 Filed 9-9-13; 8:45 am]

BILLING CODE 4210-67-P